DEPARTMENT OF EDUCATION

Privacy Act of 1974; System of Records

AGENCY: Office of Special Education and Rehabilitative Services, Department of Education.

ACTION: Notice of deletion of existing system of records.

SUMMARY: In accordance with the Privacy Act of 1974, as amended (Privacy Act), the Department of Education (Department) deletes one system of records from its existing inventory of systems of records subject to the Privacy Act.

DATES: This deletion is effective June 25, 2012.

FOR FURTHER INFORMATION CONTACT: Steven Zwillinger, Rehabilitation Services Administration, Office of Special Education and Rehabilitative Services, U.S. Department of Education, 400 Maryland Avenue SW., room 5066, Washington, DC 20202-6510. Telephone: (202) 245-7313.

If you use a telecommunications device for the deaf (TDD) or a text telephone (TTY), call the Federal Relay Service (FRS), toll free, at 1-800-877-8339.

Individuals with disabilities may obtain this document in an accessible format (e.g., braille, large print, audiotape, or compact disc) on request to the contact person listed in this section.

SUPPLEMENTARY INFORMATION: The Department deletes one system of records from its inventory of record systems subject to the Privacy Act of 1974 (5 U.S.C. 552a), as amended. The deletion is not within the purview of subsection (r) of the Privacy Act, which requires submission of a report on a new or altered system of records.

This system of records is no longer needed because the study has been terminated and data is no longer being collected. The existing records have been destroyed therefore the following system of records is deleted:

1. (18-16-03) Study of Former Vocational Rehabilitation Consumers' Post-Program Experiences (Post-Vocational Rehabilitation Experiences Study), 72 FR 11340-11342 (March 13, 2007).

Electronic Access to This Document: The official versions of these documents are the documents published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 20, 2012.
Alexa Posny,
Assistant Secretary for Special Education and Rehabilitative Services.

For the reasons discussed in the preamble, the Assistant Secretary of the Office of Special Education and Rehabilitative Services deletes the following system of records:

System No. | System name
18-16-03 | Study of Former Vocational Rehabilitation Consumers' Post-Program Experiences (Post-Vocational Rehabilitation Experiences Study), 72 FR 11340-11342 (March 13, 2007).

[FR Doc. 2012-15435 Filed 6-22-12; 8:45 am]

BILLING CODE 4000-01-P